DEPARTMENT OF ENERGY

Federal Energy Regulatory Commission

[Project No. 13053-000]

Green Wave Energy Solutions, LLC; Notice Clarifying Deadline for Filing Comments, Motions To Intervene, and Competing Applications

January 29, 2009.

On December 9, 2008, the Commission issued notice that Green Wave Energy Solutions, LLC filed an application on October 19, 2007, proposing to study the feasibility of the Green Wave Mendocino Project, to be located on the Pacific Ocean in Mendocino County, California. Pursuant to that notice the deadline for filing comments, motions to intervene, or competing applications is 60 days from December 9, 2008.

The Commission has been requested to correct any confusion as to the deadline date. According to 18 CFR 385.2007, when the deadline falls on a Saturday or Sunday, the notice period ends at the close of business on the next business day. This notice clarifies that the deadline date for filing any documents is Monday, February 9, 2009.

Kimberly D. Bose,
Secretary.

[FR Doc. E9-2522 Filed 2-5-09; 8:45 am]

BILLING CODE 6717-01-P